DEPARTMENT OF TRANSPORTATION

Federal Aviation Administration

[Proposed Policy Statement No. ANE-2000-33.87-R3]

Policy for 14 CFR 33.87, Endurance Test

AGENCY: Federal Aviation Administration, DOT.

ACTION: Notice of proposed policy statement; request for comments.

SUMMARY: The Federal Aviation Administration (FAA) announces the availability of proposed policy for 14 CFR 33.87, endurance test. This proposed policy would revise the current policy to provide guidance for demonstrating a 2-minute gas temperature limit within the 5-minute time limit associated with the takeoff power or thrust rating.

DATES: Comments must be received by April 30, 2003.

ADDRESSES: Send all comments on the proposed policy to the individual identified under FOR FURTHER INFORMATION CONTACT.

FOR FURTHER INFORMATION CONTACT: Karen Grant, FAA, Engine and Propeller Standards Staff, ANE-110, 12 New England Executive Park, Burlington, MA 01803; e-mail: karen.m.grant@faa.gov; telephone; (781) 238-7119; fax: (781) 238-7199.

SUPPLEMENTARY INFORMATION:

Comments Invited

The proposed policy statement is available on the Internet at the following address: http://www.airweb.faa.gov/rgl. If you do not have access to the Internet, you may request a copy by contacting the individual listed under FOR FURTHER INFORMATION CONTACT. The FAA invites interested parties to comment on the proposed policy. Comments should identify the subject of the proposed policy and be submitted to the individual identified under FOR FURTHER INFORMATION CONTACT. The FAA will consider all comments received by the closing date before issuing the final policy.

Background

The proposed policy statement would supersede FAA policy number 2000-33.87-R2, issued April 21, 2000. The intent of this proposed policy is to establish a uniform approach for Aircraft Certification Offices (ACOs) to evaluate and approve a 2-minute gas temperature limit caused by thermal mismatch of engine hardware or flight conditions during acceleration to takeoff power. The FAA has revised this policy to provide guidance for demonstrating a 2-minute gas temperature limit within the 5-minute time limit associated with the takeoff power or thrust rating. The proposed policy would not establish new requirements.

(Authority: 49 U.S.C. 106(g), 40113, 44701-44702, 44704.)
Issued in Burlington, Massachusetts, on February 12, 2003.
Francis A. Favara,
Assistant Manager, Engine and Propeller Directorate, Aircraft Certification Service.

[FR Doc. 03-4325 Filed 2-24-03; 8:45 am]

BILLING CODE 4910-13-M